DEPARTMENT OF HEALTH AND HUMAN SERVICES

Substance Abuse and Mental Health Services Administration (SAMHSA)

Advisory Committee for Women's Services; Notice of Meeting

Pursuant to Public Law 92-463, notice is hereby given of a meeting of the Substance Abuse and Mental Health Services Administration's (SAMHSA) Advisory Committee for Women's Services (ACWS) on August 25, 2009 in Chicago, Illinois.

The meeting is open to the public. It will include a report from the SAMHSA Acting Deputy Administrator, Updates from ACWS members, and presentations on Integrated Services for Women and Girls—a Community Health Center Perspective and Advancing Behavioral Health of Women and Girls in the Healthcare Reform Environment. The ACWS will also hold a Listening Session on Women and Trauma at the National Association of Community Health Centers' Conference at the Chicago Hilton Hotel, Chicago, Illinois from 4:45 p.m. to 6:15 p.m.

Attendance by the public will be limited to space available. Public comments are welcome. The meeting can also be accessed via audio and net-conference. To obtain the access information, to register, to submit written or brief oral comments, or to request special accommodations for persons with disabilities, please communicate with the Advisory Committee for Women's Services' Designated Federal Official, Ms. Nevine Gahed (see contact information below).

Substantive meeting information and a roster of Committee members may be obtained either by accessing the SAMHSA Committees' Web site at https://nac.samhsa.gov/WomenServices/index.aspx, or by contacting Ms. Gahed. The transcript for the meeting will also be available on the SAMHSA Committees' Web site within three weeks after the meeting.

Committee Name: SAMHSA's Advisory Committee for Women's Services.

Date/Time/Type: Tuesday, August 25, 2009, from 9 a.m. to 6:15 p.m.: Open.

Place: The Palmer House Hotel, 17 East Monroe Street, Chicago, Illinois 60603. Telephone: 312-726-7500.

Contact: Nevine Gahed, Designated Federal Official, SAMHSA Advisory Committee for Women's Services, 1 Choke Cherry Road, Room 8-1112, Rockville, Maryland 20857.

Telephone: (240) 276-2331; FAX: (240) 276-2220 and E-mail: nevine.gahed@samhsa.hhs.gov.

Toian Vaughn,
Committee Management Officer, Substance Abuse and Mental Health Services Administration.

[FR Doc. E9-18837 Filed 8-5-09; 8:45 am]

BILLING CODE 4162-20-P